DEPARTMENT OF TRANSPORTATION

Federal Aviation Administration

14 CFR Part 39

[Docket No. FAA-2015-8132; Directorate Identifier 2015-NM-127-AD; Amendment 39-18663; AD 2016-19-14]

RIN 2120-AA64

Airworthiness Directives; Airbus Airplanes

AGENCY: Federal Aviation Administration (FAA), Department of Transportation (DOT).

ACTION: Final rule.

SUMMARY: We are adopting a new airworthiness directive (AD) for certain Airbus Model A318 and A319 series airplanes; Model A320-211, -212, -214, -231, -232, and -233 airplanes; and Model A321 series airplanes. This AD was prompted by a report of cracks found during maintenance inspections on certain lugs of the 10VU rack side fittings in the cockpit. This AD requires repetitive inspections for cracking of the lugs on the 10VU rack side fittings, and repair of any cracking. We are issuing this AD to prevent reading difficulties of flight-critical information displayed to the flightcrew during a critical phase of flight, such as an approach or takeoff, which could result in loss of airplane control at an altitude insufficient for recovery.

DATES: This AD is effective November 22, 2016.

The Director of the Federal Register approved the incorporation by reference of a certain publication listed in this AD as of November 22, 2016.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-8132.

Examining the AD Docket

You may examine the AD docket on the Internet at http://www.regulations.gov by searching for and locating Docket No. FAA-2015-8132; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to certain Airbus Model A318, A319, A320, and A321 series airplanes. The NPRM published in the Federal Register on December 31, 2015 (80 FR 81792) (“the NPRM”). The NPRM was prompted by a report of cracks found during maintenance inspections on certain lugs of the 10VU rack side fittings in the cockpit. The NPRM proposed to require repetitive inspections for cracking of the lugs on the 10VU rack side fittings, and repair of any cracking. We are issuing this AD to prevent reading difficulties of flight-critical information displayed to the flightcrew during a critical phase of flight, such as an approach or takeoff, which could result in loss of airplane control at an altitude insufficient for recovery.

The European Aviation Safety Agency (EASA), which is the Technical Agent for the Member States of the European Union, has issued EASA Airworthiness Directive 2015-0170, dated August 18, 2015 (referred to after this as the Mandatory Continuing Airworthiness Information, or “the MCAI”), to correct an unsafe condition for certain Airbus Model A318 and A319 series airplanes; Model A320-211, -212, -214, -231, -232, and -233 airplanes; and Model A321 series airplanes. The MCAI states:

During an unscheduled maintenance operation on an A330 aeroplane, the 10VU rack was removed for access and cracks were discovered on 10VU rack side fittings on lugs 1, 3, and 4. As a similar design is installed on A320 family aeroplanes, a sampling review was done to determine the possible fleet impact. The result showed that several aeroplanes had cracked or broken 10VU rack side fittings.

This condition, if not detected and corrected, could lead to a high vibration level on the primary flight- and navigation displays during critical flight phases (takeoff and landing), possibly creating reading difficulties for the crew.

Prompted by these findings, Airbus developed mod 35869 to reinforce the affected rack fitting lugs. For in-service aeroplanes, Airbus published Service Bulletin (SB) A320-92-1087 to provide inspection and repair instructions.

For the reasons described above, this [EASA] AD requires repetitive detailed inspections (DET) of the affected 10VU rack fitting lugs and, depending on findings, accomplishment of a repair.

You may examine the MCAI in the AD docket on the Internet at http://www.regulations.gov by searching for and locating Docket No. FAA-2015-8132.

Comments

We gave the public the opportunity to participate in developing this AD. The following presents the comments received on the NPRM and the FAA's response to each comment.

Request To Clarify the Description of the Unsafe Condition

Airbus asked that we revise the unsafe condition by stating that the NPRM is intended to prevent “reading difficulties of flight-critical information,” and not “loss of flight-critical information.” Airbus stated that this clarification would correspond with the language specified in EASA AD 2015-0170, dated August 18, 2015.

We agree with the commenter's request, for the reason provided. We have clarified the unsafe condition in the SUMMARY and SUPPLEMENTARY INFORMATION Discussion sections in the preamble of this final rule and in paragraph (e) of the AD.

Request To Extend Compliance Time

Delta Airlines (DAL) asked that the compliance time specified in the NPRM be extended from 24 to 36 months. DAL stated that the subject cracking issue has been known for over five years; however, the FAA just recently took regulatory action. DAL added that there have been no in-service reports of issues related to safety of flight due to the cracking condition. DAL noted that the unsafe condition of vibration during a critical phase of flight is theoretical and not based on actual testing or experience. In light of this, DAL stated that the 24-month time limit is unwarranted, and should be extended to 36 months to allow more time so the inspection can be accomplished during a hangar visit.

We do not agree with the commenter's request. In developing an appropriate compliance time for the actions specified in this AD, we considered the safety implications and normal maintenance schedules for the timely accomplishment of the specified actions. We have determined that the proposed 24-month compliance time will ensure an acceptable level of safety and allow the actions to be done during scheduled maintenance intervals for most affected operators. However, affected operators may request an alternative method of compliance (AMOC) for an extension of the compliance time under the provisions of paragraph (i)(1) of this AD by submitting data and analysis substantiating that the change would provide an acceptable level of safety. We have not changed this AD in this regard.

Request To Remove Reporting Requirement

DAL asked that the proposed mandatory reporting requirement in paragraph (h) of the proposed AD be removed. DAL understands that Airbus wants to gather necessary in-service information; however, the airworthiness of the airplane does not depend on mandatory reporting. DAL stated that the airplane would be airworthy and public safety would be maintained without the mandatory reporting requirement. DAL added that requiring reporting places an unfair burden on operators of Airbus airplanes compared to operators of airplanes produced by other manufacturers, particularly when there are no findings, because reporting is mandated for the benefit of the original equipment manufacturer. DAL concluded that the reporting should not be mandated through this regulatory action.

We do not agree with the commenter's request to remove the reporting requirement in paragraph (h) of this AD. We disagree that public safety would be maintained without the mandatory reporting requirement. Reporting is necessary for the airframe manufacturer to determine the extent of the cracking of the lugs on the 10VU rack side fittings, and to ascertain any necessary follow-up actions. Therefore, we have not changed this AD in this regard.

Request To Clarify Reporting Requirements

DAL asked for clarification of the format necessary to report the inspection results specified in paragraph (h) of the proposed AD. DAL asked if the reporting form located in the back of Airbus Service Bulletin A320-92-1087, Revision 02, dated November 25, 2014, must be used or if the report can be submitted using another format.

While we recommend that operators use the form in Figure A-FRAAA—Sheet 02, titled “Inspection Report,” of Airbus Service Bulletin A320-92-1087, Revision 02, dated November 25, 2014, this AD does not require use of that form. We have changed paragraph (h) of this AD to clarify our intent.

DAL also noted that it disagrees with having to determine and report the supplemental type certificate (STC) status for equipment attached to the 10VU rack, as specified in Figure A-FRAAA—Sheet 02, titled “Inspection Report,” of Airbus Service Bulletin A320-92-1087, Revision 02, dated November 25, 2014. DAL stated that STC equipment should be addressed in a separate regulatory action.

We agree with the comment. As previously indicated, the referenced form is not specifically required by this AD, and we have changed paragraph (h) of this AD to clarify our intent.

Request for Clarification on Returning Damaged Parts

DAL and United Airlines (UAL) asked for clarification on returning damaged parts to Airbus. DAL stated that if the reporting form must be used, it disagrees with sending all damaged parts to Airbus. UAL stated that the NPRM proposes requiring reporting inspection findings to Airbus, and Figure A-FRAAA—Sheet 02, titled “Inspection Report” of Airbus Service Bulletin A320-92-1087, Revision 02, dated November 25, 2014, specifies that damaged lugs are to be sent to Airbus for investigation. UAL noted that it will try to deliver damaged parts, but added that this should not be an AD requirement since parts shipment will increase cost and the operator cannot guarantee delivery.

We agree that clarification is necessary. Although the note contained in Figure A-FRAAA—Sheet 02, titled “Inspection Report,” of Airbus Service Bulletin A320-92-1087, Revision 02, dated November 25, 2014, specifies “If lugs have been replaced the removed part should be sent to Airbus for investigation,” this AD does not include that requirement. We have included this exception in the reporting requirement in paragraph (h) of this AD.

Request To Use a Certain Drawing

UAL asked that we approve using the current version of the Airbus repair drawing, as called out in Airbus Service Bulletin A320-92-1087, Revision 02, dated November 25, 2014. UAL noted that this repair drawing is the latest version and may be revised without revision of Airbus Service Bulletin A320-92-1087, Revision 02, dated November 25, 2014.

For clarification, we agree that the current version of the repair drawing can be used. We have not changed this AD in this regard.

Request To Change Costs of Compliance Section

DAL asked that we change the repair estimate in the `Costs of Compliance' section of the NPRM, as specified in Airbus Service Bulletin A320-92-1087, Revision 02, dated November 25, 2014. DAL stated that the service information does not provide the cost of the parts, and Airbus does have the price of each part listed in the COMPA01 components. DAL added that the parts cost is $9,140 per airplane to accomplish the repair work. DAL asked that this cost be included in the cost of the repair, for a total of $16,280 per airplane.

We agree with the commenter's request, for the reason provided. We have changed the repair estimate in the `Costs of Compliance' section of this final rule accordingly.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR part 51

We reviewed Airbus Service Bulletin A320-92-1087, Revision 02, dated November 25, 2014. The service information describes procedures for repetitive inspections for cracking of the lugs on the 10VU rack side fittings, and repair of any cracking. This service information is reasonably available because the interested parties have access to it through their normal course of business or by the means identified in the ADDRESSES section.

Costs of Compliance

We estimate that this AD affects 959 airplanes of U.S. registry.

We also estimate that it takes about 2 work-hours per product to comply with the basic requirements of this AD, and 1 work-hour per product to report inspection findings. The average labor rate is $85 per work-hour. Based on these figures, we estimate the cost of this AD on U.S. operators to be $244,545, or $255 per product.

In addition, we estimate that any necessary repair takes about 84 work-hours and require parts costing $9,140, for a cost of $16,280 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-19-14 Airbus: Amendment 39-18663; Docket No. FAA-2015-8132; Directorate Identifier 2015-NM-127-AD.

(a) Effective Date

This AD is effective November 22, 2016.

(b) Affected ADs

None.

(c) Applicability

This AD applies to the Airbus airplanes identified in paragraphs (c)(1) through (c)(4) of this AD, certificated in any category; except airplanes on which Airbus Modification 35869 has been embodied in production.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 25, Equipment/Furnishings.

(e) Reason

This AD was prompted by a report of cracks found during maintenance inspections on certain lugs of the 10VU rack side fittings in the cockpit. We are issuing this AD to prevent reading difficulties of flight-critical information displayed to the flightcrew during a critical phase of flight, such as an approach or takeoff, which could result in loss of airplane control at an altitude insufficient for recovery.

(f) Compliance

Comply with this AD within the compliance times specified, unless already done.

(g) Repetitive Inspections and Repair

At the later of the times specified in paragraphs (g)(1) and (g)(2) of this AD: Do a detailed inspection for cracking of the lugs on the 10VU rack side fittings in the cockpit, in accordance with the Accomplishment Instructions of Airbus Service Bulletin A320-92-1087, Revision 02, dated November 25, 2014. If any crack is found, before further flight, repair in accordance with the Accomplishment Instructions of Airbus Service Bulletin A320-92-1087, Revision 02, dated November 25, 2014. Repeat the inspection thereafter at intervals not to exceed 20,000 flight cycles or 40,000 flight hours, whichever occurs first. Repair of the 10VU rack lugs does not terminate the repetitive inspections required by this paragraph.

(1) Before the accumulation of 30,000 total flight cycles or 60,000 total flight hours, whichever occurs first since the airplane's first flight.

(2) Within 24 months after the effective date of this AD.

(h) Reporting Requirement

Submit a report of any findings (positive and negative) of any inspection required by paragraph (g) of this AD to Airbus Service Bulletin Reporting Online Application on Airbus World (https://w3.airbus.com/), at the applicable time specified in paragraph (h)(1) or (h)(2) of this AD. Where Figure A-FRAAA—Sheet 02, titled “Inspection Report,” of Airbus Service Bulletin A320-92-1087, Revision 02, dated November 25, 2014, specifies sending removed lugs to Airbus for investigation, this AD does not include that requirement. The form contained in Figure A-FRAAA—Sheet 02, titled “Inspection Report,” of Airbus Service Bulletin A320-92-1087, Revision 02, dated November 25, 2014, may be used to meet this reporting requirement.

(1) If the inspection was done on or after the effective date of this AD: Submit the report within 90 days after the inspection.

(2) If the inspection was done before the effective date of this AD: Submit the report within 90 days after the effective date of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(4) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

Refer to Mandatory Continuing Airworthiness Information (MCAI) European Aviation Safety Agency (EASA) Airworthiness Directive 2015-0170, dated August 18, 2015, for related information. This MCAI may be found in the AD docket on the Internet at http://www.regulations.gov by searching for and locating Docket No. FAA-2015-8132.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-92-1087, Revision 02, dated November 25, 2014.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 14, 2016.
Michael Kaszycki,
Acting Manager, Transport Airplane Directorate, Aircraft Certification Service.

[FR Doc. 2016-22837 Filed 10-17-16; 8:45 am]

BILLING CODE 4910-13-P